DEPARTMENT OF THE INTERIOR

Fish and Wildlife Service

Availability of an Environmental Assessment and an Application for an Incidental Take Permit for the Temecula Ridge Apartments and Temecula Village Development Projects in Riverside County, CA

AGENCY: Fish and Wildlife Service, Interior.

ACTION: Notice of availability and receipt of application.

SUMMARY: AGK Group, LLC and Temecula Village Development, L.P. (the Applicants) have applied to the Fish and Wildlife Service (Service) for incidental take permits pursuant to section 10(a)(1)(B) of the Endangered Species Act of 1973, as amended. The Service is considering issuance of a 7-year permit to each Applicant that would authorize take of the threatened coastal California gnatcatcher (Polioptila californica californica) incidental to otherwise lawful activities. Such take would occur during the construction of multi-family residential structures and associated commercial/retail space on a 44-acre infill site adjacent to Rancho California Road in the City of Temecula in southwestern Riverside County, California. We request comments from the public on the permit application, and an Environmental Assessment, both of which are available for review. The permit application includes the proposed Habitat Conservation Plan (HCP) and an accompanying Implementing Agreement (legal contract). The HCP describes the proposed action and the measures that the Applicants would undertake to minimize and mitigate take of the coastal California gnatcatcher.

DATES: We must receive your written comments on or before February 1, 2002.

ADDRESSES: Please address written comments to Mr. Jim Bartel, Field Supervisor, U.S. Fish and Wildlife Service, 2730 Loker Avenue West, Carlsbad, California 92008. You also may send comments by facsimile to (760) 431-5902.

FOR FURTHER INFORMATION CONTACT: Ms. Karen Evans, Assistant Field Supervisor, at the above address or call (760) 431-9440.

SUPPLEMENTARY INFORMATION:

Availability of Documents

You may obtain copies of these documents for review by contacting the above office. Documents also will be available for public inspection, by appointment, during normal business hours at the above address and at the Temecula Library located at 41000 County Center Drive, Temecula, California.

Background

Section 9 of the Endangered Species Act (Act) and federal regulations prohibit the “take” of fish or wildlife species listed as endangered or threatened. Take of listed fish or wildlife is defined under the Act to include “harass, harm, pursue, hunt, shot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicants are proposing development of multi-family residential structures (containing a total of 406 residential units) and associated commercial and retail space on 44 acres. The development site is an infill area within the City surrounded by a combination of multi-family and single family residential complexes.

Biologists surveyed the combined project site for biological resources in 1999 and 2000. Two years of protocol surveys for Quino checkerspot butterfly (Euphydryas editha quino) were conducted, but no sign of the species was detected. Two pairs of coastal California gnatcatchers were found in 2000. Given the limited amount of sage scrub habitat available for these two pairs on this infill site (14 acres), it is presumed that the two pairs are also utilizing, to some degree, portions of the remaining 30 acres, which consist of non-native grassland, ruderal vegetation, and barren areas.

Based on the survey results, the Service concluded that implementation of the two proposed projects would result in take of the two pairs of gnatcatchers found on this infill site, through the permanent removal of the vegetation on the 44 acres of this combined site: 14 acres of riversidean sage scrub, and 30 acres of non-native grassland and ruderal vegetation. Environmental effects addressed in the HCP and Environmental Assessment include the loss of both pairs of gnatcatchers given the removal of the vegetation from the site.

The Applicants propose to implement the following measures to mitigate and minimize take of coastal California gnatcatchers: (1) Avoid ground disturbing activities during the California gnatcatcher breeding season; (2) stake the construction boundaries of the project; (3) random inspections of the project site by a biological monitor; (4) purchase conservation credits for 45 acres of riversidean sage scrub occupied by two pairs of gnatcatchers from an off-site mitigation bank in the Riverside County area; and (5) purchase an additional 25 acres of riversidean sage scrub conservation credits from another off-site mitigation bank in the Riverside County area. Both conservation banks possess a management endowment to ensure their permanent management for sensitive species and habitats, including the California gnatcatcher.

The Environmental Assessment considers the environmental consequences of four alternatives, including the Proposed Action. The Proposed Action consists of the issuance of two incidental take permits and implementation of the HCP and its Implementing Agreement, which includes measures to minimize and mitigate impacts of the two projects on the coastal California gnatcatcher. Under the “No Action” alternative, the Service would not issue a permit to either Applicant. Under this alternative, the proposed residential developments would not be constructed at this time. Both pairs of gnatcatchers may still be lost over time because the small isolated project site is not well-suited to the long term preservation of gnatcatcher pairs. Contributions to more permanent gnatcatcher preservation efforts in the region (through participation in regional conservation mitigation banks) would not occur.

Under the “Reduced Project” alternative, one of the two multi-family residential projects would not receive an incidental take permit. One of the applicants would not develop their property at this time. The other project would receive a permit. It is likely that both gnatcatcher pairs would ultimately be lost from the 44 acre combined site since development of either project alone would likely eliminate so much habitat as to render the remaining isolated habitat incapable of supporting any gnatcatcher pairs in the long term. This alternative would provide only half of the conservation benefits of the Proposed Action while ultimately resulting in the same level of incidental take as the Proposed Action.

Under the “Different Location” alternative, the two adjoining projects would be relocated to another area in the City of Temecula. The opportunities for needed multi-family housing in the City of Temecula are severely limited, and the identification and acquisition of an alternative site in the City cannot be assured. Under this alternative, both pairs of gnatcatchers may still be lost because the small isolated project site is not well-suited to the long term preservation of gnatcatcher pairs. No conservation contributions to regional gnatcatcher preservation would be made.

The alternatives to the Proposed Action would result in less habitat conservation value for the coastal California gnatcatcher in the Riverside County region and contribute less to its long-term survival in the wild than the off-site conservation bank habitat preservation/management mitigation measures under the Proposed Action.

This notice is provided pursuant to section 10(a) of the Endangered Species Act and the regulations of the National Environmental Policy Act of 1969 (40 CFR 1506.6). All comments that we receive, including names and addresses, will become part of the official administrative record and may be made available to the public. We will evaluate the application, associated documents, and comments submitted thereon to determine whether the application meets the requirements of the National Environmental Policy Act regulations and section 10(a) of the Endangered Species Act. If we determine that those requirements are met, we will issue a permit to each Applicant for the incidental take of the coastal California gnatcatcher. We will make our final permit decision no sooner than 60 days from the date of this notice.

Dated: November 26, 2001.
John Engbring,
Acting Deputy Manager, California/Nevada Operations Office, Sacramento, California.

[FR Doc. 01-29840 Filed 11-30-01; 8:45 am]

BILLING CODE 4310-55-P